DEPARTMENT OF AGRICULTURE

Grain Inspection, Packers and Stockyards Administration

Amendment to the Designation of Mid-Iowa Grain Inspection

AGENCY: Grain Inspection, Packers and Stockyards Administration, USDA.

ACTION: Notice of amendment.

SUMMARY: The Grain Inspection, Packers and Stockyards Administration (GIPSA) is amending Mid-Iowa Grain Inspection, Inc.'s (Mid-Iowa) geographical territory to include the area previously designated to Central Illinois Grain Inspection, Inc. (Central Illinois). Mid-Iowa purchased Central Illinois effective July 1, 2017, and met the requirements specified by regulations issued under the United States Grain Standards Act (USGSA), as amended. The designation of Mid-Iowa is from July 1, 2016, to June 30, 2020.

DATES: July 1, 2017.

FOR FURTHER INFORMATION CONTACT: Sharon Lathrop, 816-891-0415 or FGIS.QACD@usda.gov.

SUPPLEMENTARY INFORMATION: Section 7(f) of the USGSA (7 U.S.C. 71-87k) authorizes the Secretary to designate a qualified applicant to provide official services in a specified area after determining that the applicant is better able than any other applicant to provide such official services (7 U.S.C. 79(f)). Under 7 U.S.C. 79(g), designations of official agencies are effective for no longer than 5 years, unless terminated by the Secretary, and may be renewed according to the criteria and procedures prescribed in 7 U.S.C. 79(f).

Mid-Iowa Designation

Pursuant to Section 7(f)(2) of the USGSA, the following geographic area, in the States of Iowa, Illinois, and Minnesota, is assigned to this official agency.

In Iowa

Bounded on the north by the northern Winneshiek and Allamakee County lines; bounded on the east by the eastern Allamakee County line; the eastern and southern Clayton County lines; the eastern Buchanan County line; the northern Jones and Jackson County lines; the eastern Jackson and Clinton County lines; southern Clinton County line; the eastern Cedar County line south to State Route 130; bounded on the south by State Route 130 west to State Route 38; State Route 38 south to Interstate 80; Interstate 80 west to U.S. Route 63; and bounded on the west by U.S. Route 63 north to State Route 8; State Route 8 east to State Route 21; State Route 21 north to D38; D38 east to V49; V49 north to Bremer County; the southern Bremer County line; the western Fayette and Winneshiek County lines.

In Illinois

Carroll and Whiteside Counties

Bounded on the north by State Route 18 east to U.S. Route 51; U.S. Route 51 south to State Route 17; State Route 17 east to Livingston County; and the Livingston County line east to State Route 47; bounded on the east by State Route 47 south to State Route 116; State Route 116 west to Pontiac, which intersects with a straight line running north and south through Arrowsmith to the southern McLean County line; the southern McLean County line east to the eastern DeWitt County line; the eastern DeWitt County line; the eastern Macon County line south to Interstate 72; Interstate 72 northeast to the eastern Piatt County line; the eastern Piatt, Moultrie, and Shelby County lines; bounded on the south by the southern Shelby County line; and a straight line running along the southern Montgomery County line west to State Route 16 to a point approximately one mile northeast of Irving; and bounded on the west by a straight line from this point northeast to Stonington on State Route 48; a straight line from Stonington northwest to Elkhart on Interstate 55; a straight line from Elkhart northeast to the west side of Beason on State Route 10; State Route 10 west to the Logan County line; the western Logan County line; the southern Tazewell County line; the western Tazewell County line; the western Peoria County line north to Interstate 74; Interstate 74 southeast to State Route 116; State Route 116 north to State Route 26; and State Route 26 north to State Route 18.

In Minnesota

Fillmore, Houston, Olmstead, Wabasha, and Winona Counties

The following grain elevators are not part of this geographic area assignment and are assigned to: Champaign-Danville Grain Inspection Departments, Inc.: East Lincoln Farmers Grain Co., Lincoln, Logan County, Illinois; Okaw Cooperative, Cadwell, Moultrie County, Illinois; ADM (3 elevators), Farmer City, Dewitt County, Illinois; and Topflight Grain Company, Monticello, Piatt County, Illinois.

Authority: 7 U.S.C. 71-87k.

Randall D. Jones,
Acting Administrator, Grain Inspection, Packers and Stockyards Administration.

[FR Doc. 2017-18636 Filed 9-1-17; 8:45 am]

BILLING CODE 3410-KD-P